SMALL BUSINESS ADMINISTRATION

National Small Business Development Center Advisory Board; Public Meeting

The U.S. Small Business Administration (SBA), National Small Business Development Center Advisory Board will hold a public meeting via conference call on Tuesday, February 20, 2007 at 1 p.m. (EST).

The purpose of the meeting is to discuss the upcoming SBA board meeting; the Association of Small Business Development Centers (ASBDC) Board meeting; and the detailed agenda of SBA presentations.

Anyone wishing to make an oral presentation to the Board must contact Erika Fischer, Senior Program Analyst, U.S. Small Business Administration, Office of Small Business Development Centers, 409 3rd Street, SW., Washington, DC 20416, telephone (202) 205-7045 or fax (202) 481-0681.

Matthew Teague,
Committee Management Officer.

[FR Doc. E7-1383 Filed 1-29-07; 8:45 am]

BILLING CODE 8025-01-P